DEPARTMENT OF COMMERCE

National Oceanic and Atmospheric Administration

50 CFR Parts 600 and 660

[RTID 0648-XF363]

Magnuson-Stevens Act Provisions; Fisheries Off West Coast States; Pacific Coast Groundfish Fishery Management Plan; Amendment 37; Stock Definitions

AGENCY: National Marine Fisheries Service (NMFS), National Oceanic and Atmospheric Administration (NOAA), Commerce.

ACTION: Notice of availability of proposed fishery management plan amendment; request for comments.

SUMMARY: NMFS announces that the Pacific Fishery Management Council (Council) has submitted amendment 37 to the Pacific Coast Groundfish Fishery Management Plan (Groundfish FMP) to the Secretary of Commerce for review. If approved, amendment 37 would define stocks that are in need of conservation and management in the exclusive economic zone (EEZ), consistent with the provisions and guidelines of the Magnuson-Stevens Fishery Conservation and Management Act (Magnuson-Stevens Act). Amendment 37 would define stocks for 27 species within the fishery management unit. Amendment 37 is necessary for NMFS to make stock status determinations, which in turn will help prevent overfishing, rebuild overfished stocks, and achieve optimum yield. Amendment 37 is administrative in nature and does not change harvest levels or timing and location of fishing, nor does it revise the goals and objectives or the management frameworks of the Groundfish FMP.

DATES: Comments on amendment 37 must be received no later than April 6, 2026.

ADDRESSES: You may submit comments on this document, identified by NOAA-NMFS-2025-1428, by the following method:

• Electronic Submission: Submit all electronic public comments via the Federal e-Rulemaking Portal. Go to https://www.regulations.gov and enter NOAA-NMFS-2025-1428 in the Search box. Click the “Comment” icon, complete the required fields, and enter or attach your comments.

Instructions: Comments must be submitted by the above method to ensure that the comments are received, documented, and considered by NMFS. Comments sent by any other method, to any other address or individual, or received after the end of the comment period, may not be considered. All comments received are a part of the public record and NMFS will post for public viewing on https://www.regulations.gov without change. All personal identifying information (e.g., name, address, etc.), confidential business information, or otherwise sensitive information submitted voluntarily by the sender is publicly accessible. NMFS will accept anonymous comments (enter “N/A” in the required fields if you wish to remain anonymous).

Electronic copies of proposed amendment 37 and the draft analysis (the Analysis) prepared for this action may be obtained from https://www.regulations.gov, from the NMFS West Coast Region website at https://www.fisheries.noaa.gov/region/west-coast, and from the Council's website at https://www.pcouncil.org.

FOR FURTHER INFORMATION CONTACT: Megan Mackey, Fishery Management Specialist, at 206-526-6140, or megan.mackey@noaa.gov.

SUPPLEMENTARY INFORMATION: NMFS manages the groundfish fisheries in the exclusive economic zone (EEZ) seaward of Washington, Oregon, and California under the Groundfish FMP. The Council prepared and NMFS implemented the Groundfish FMP under the authority of the Magnuson-Stevens Act, 16 U.S.C. 1801 et seq. and by regulations at 50 CFR parts 600 and 660. The Magnuson-Stevens Act requires that each regional fishery management council submit any fishery management plan (FMP) or plan amendment it prepares to NMFS for review and approval, disapproval, or partial approval by the Secretary of Commerce. The Magnuson-Stevens Act also requires that NMFS, upon receiving an FMP or amendment, immediately publish notification that the FMP or amendment is available for public review and comment. This notification announces that the proposed amendment 37 to the Groundfish FMP is available for public review and comment. NMFS will consider the public comments received during the comment period described above in determining whether to approve, partially approve, or disapprove amendment 37 to the Groundfish FMP.

Background

In 2021, NMFS was unable to make stock status determinations for stocks that were assessed in 2021, because the “stocks” for which the Council was expecting status determinations did not exist in the Groundfish FMP. At that time, the Groundfish FMP contained a list of over 80 species and did not describe whether each species is a single stock within the fishery management unit (FMU) (i.e., the jurisdiction of the Groundfish FMP from 3 to 200 nautical miles offshore between the United States border with Canada and the United States border with Mexico) or if it is multiple (e.g., regional) stocks. NMFS advised the Council that steps must be taken to draw the Groundfish FMP into compliance with the Magnuson-Stevens Act and the National Standards by defining the groundfish species in need of conservation and management in the EEZ as stocks. The Council initiated a process, called phase 1, to correct this issue. Phase 1 developed a process to define stocks of managed species and, over the course of amendment 31 (88 FR 78677, November 16, 2023) and amendment 35 (approved on June 2, 2025), defined 28 stocks of 21 species managed in the Groundfish FMP. Phase 1 was used to define stocks of species that were undergoing stock assessments, and were therefore the most likely candidates to be the subject of NMFS' forthcoming status determinations, which are often based on new assessments. A second Phase, or Phase 2, was planned to complete the process of identifying and defining those stocks of species currently managed in the Groundfish FMP that are found to be in need of conservation and management in the EEZ.

Phase 2 was initiated by the Council at the November 2023 Council meeting, and at the June 2025 and September 2025 Council meetings, the Council recommended stock definitions for 27 species of Pacific Coast groundfish managed under the Groundfish FMP that were determined to be in need of conservation and management in the EEZ. Amendment 37 is administrative in nature, and the economic impacts, if any, will come when stock assessments are completed, the status of the stocks are determined by NMFS, and appropriate fishery management actions are taken by the Council.

During the development of amendment 31, the Council was advised by the Scientific and Statistical Committee (SSC) that indications of population structure within a species should be an indicator of whether stock status should be determined at a finer scale than coastwide. Therefore, the Council evaluated a literature review of the best scientific and biological information available for each species, which is appended to the analyses developed for amendment 35 and amendment 37, available on the Council website (see ADDRESSES section).

The analysis pertaining to the amendment 37 species considered a single stock definition alternative for all but four of the species (darkblotched and greenspotted rockfishes, boccacio, and cowcod, as explained below). Generally, species with no known population structure, based on the literature review, or with known single-population structure based on genetic information, were considered under a single stock definition alternative.

The analysis assumed each alternative stock definition considered by the Council was adopted, then applied the Groundfish FMP's harvest specifications framework to each stock to assess some of the biological and fishery management trade-offs that might be expected from implementation of future management actions based on the alternative stock definition. Impacts of these stock definitions are expected to flow from future, subsequent action(s) to set harvest specifications and management measures for the stock(s), but the analysis provided information for the Council to consider in making its decision. The Council considered these tradeoffs when making its final stock definition recommendations for the amendment 37 species at its June and September 2025 meetings.

The Council considered 23 of the 27 amendment 37 species under a single stock definition (arrowtooth flounder, aurora rockfish, bank rockfish, big skate, blackgill rockfish, California scorpionfish, flathead sole, greenstriped rockfish, longnose skate, longspine thornyhead, Pacific cod, Pacific hake, Pacific Ocean perch, Pacific sanddab, redstripe rockfish, rosethorn rockfish, sharpchin rockfish, shortraker rockfish, silvergray rockfish, splitnose rockfish, starry rockfish, stripetail rockfish, and yellowmouth rockfish). Specifically, California scorpionfish and starry rockfish were considered under a California-only stock, due to their known geographic range, whereas the others were considered under a single coastwide stock definition. Except for blackgill rockfish (as discussed below), all of these species have been consistently considered a single population, assessed as a single geographic unit, and have historically had a single overfishing limit (OFL) established under the FMP. At present, genetics, larval dispersal, and/or adult movement data do not support delineating these 23 species on a finer geographic scale than coastwide, or as less than a single California stock for starry rockfish and California scorpionfish, which can be more finely defined based on their known geographic range.

Blackgill rockfish has been assessed north and south of 40°10′ N lat. and is currently managed as a component stock to the slope rockfish complexes north and south of 40°10′ N lat. Under a single coastwide stock definition, this management structure is assumed to continue and is not expected to trigger future allocative actions, increase management burden during the next biennial cycle as compared to 2025-2026, or result in short-term or long-term biological impacts, if status is determined at a coastwide scale. Therefore, the Council recommended and NMFS is proposing to approve a single coastwide stock of arrowtooth flounder, aurora rockfish, bank rockfish, big skate, blackgill rockfish, flathead sole, greenstriped rockfish, longnose skate, longspine thornyhead, Pacific cod, Pacific hake, Pacific Ocean perch, Pacific sanddab, redstripe rockfish, rosethorn rockfish, sharpchin rockfish, shortraker rockfish, silvergray rockfish, splitnose rockfish, stripetail rockfish, and yellowmouth rockfish, and single California-only stocks of California scorpionfish and starry rockfish in the Groundfish FMP, as only a single geographic delineation clearly aligned with past and recent fishery management and policy decisions and with the best scientific information available for these species.

For the four species considered under multiple alternatives, the following narrative provides species-specific information, in alphabetical order by common name, and rationale for the stock definition for each species that would be implemented by amendment 37.

Bocaccio (Sebastes Paucispinis)

Bocaccio (Sebastes paucispinis) range from the Shumagin Islands in the Gulf of Alaska to Punta Blanca, Mexico. They are most abundant from northern California to Bahia San Quentin, with some relatively high densities in British Columbia. Bocaccio has little evidence of population structure, but has two sub-area assessments. As noted by the 2017 update stock assessment (He and Field, 2017), the range of bocaccio extends considerably further north and there is some evidence that there are two demographic clusters centered around southern/central California and the West Coast of British Columbia. This finding is supported by apparent differences in growth, maturity, and longevity, although genetic evidence seems to indicate a single West Coast population. Therefore, bocaccio was initially considered under two alternatives: one as a single stock definition and a second alternative defining it as two stocks separated at 40°10′ N lat. Due to a lack of scientific evidence of distinct population structure off the U.S West Coast, the Council recommended and NMFS is proposing a single coastwide stock of bocaccio in the FMU. A single geographic delineation aligns with the best scientific information available.

Cowcod (Sebastes Levis)

Cowcod (Sebastes levis) range from Newport, Oregon to central Baja California, Mexico and are relatively abundant south of Cape Mendocino, California. Cowcod was last assessed in 2019 with two sub-areas: south of 34°27′ N lat. and north of 34°27′ N lat. but has been managed as a single stock off California. Microsatellite and mitochondrial DNA data suggest as many as three genetically distinct lineages of cowcod off California: one north of Point Conception and two south of Point Conception. The Council considered cowcod under two alternatives: as a single stock definition (California-only) and as two stocks (California and Oregon stocks). However, a two-stock definition of California and Oregon would require new harvest specifications for an Oregon stock, which has never been assessed, and it would not align with the best scientific information available. Therefore, the Council recommended and NMFS is proposing to approve a single California stock of cowcod in the Groundfish FMP as it aligns best with the available science and aligns with past and recent fishery management and policy decisions for the species.

Darkblotched Rockfish (Sebastes Crameri)

Darkblotched rockfish (Sebastes crameri) range from the Aleutian Islands to Laguna Beach, California but are most common from Yakutat, Alaska to Catalina Island, California. The 2017 assessment treated the species as a single coastwide stock, due to the lack of biological and genetic data supporting the presence of multiple stocks. At present, status is determined at the coastwide scale. The literature review and the assessment both noted microsatellite analyses of spatial genetic structure in darkblotched rockfish and indicated some level of genetic differentiation in the stock along the coast, but the level of differentiation was low, sample size was small, and the findings supported by a limited genetic study.

The Council considered darkblotched rockfish under all three alternatives: a single coastwide stock, two separate stocks north and south of 40°10′ N lat., and three stocks (a California stock, an Oregon stock, and a Washington stock). Because a single coastwide geographic delineation aligns well with the best scientific information available, as well as with past and recent fishery management and policy decisions for the species, the Council recommended and NMFS is proposing to approve a single coastwide stock of darkblotched rockfish in the Groundfish FMP.

Greenspotted Rockfish (Sebastes Chlorostictus)

Greenspotted rockfish (Sebastes chlorostictus) range from Copalis Head, WA to Baja California, Mexico and are most abundant south of Mendocino, CA (Dick et al., 2011). Survey-based indices of abundance suggest increasing biomass densities of greenspotted rockfish from Washington to California (Wetzel and Hastie, 2022). A benchmark assessment was conducted in 2011 for the portion of the stock off California and was modeled as two area assessments north and south of Point Conception, California (34°27′ N lat.).

The Council considered greenspotted rockfish as two separate stocks (a stock north of 34°27′ N lat. and a stock south of 34°27′ N lat.) to account for differences in growth rates and exploitation histories. However, because a single coastwide geographic delineation reflects the range of the species, with little impact to the management burden expected, the Council recommended and NMFS is proposing to approve a single coastwide stock of greenspotted rockfish in the Groundfish FMP.

Authority: 16 U.S.C. 1801 et seq.

Dated: February 2, 2026.
Kelly Denit,
Director, Office of Sustainable Fisheries, National Marine Fisheries Service.

[FR Doc. 2026-02291 Filed 2-4-26; 8:45 am]

BILLING CODE 3510-22-P